ENVIRONMENTAL PROTECTION AGENCY

40 CFR Part 52

[IA 104-1104; FRL-6702-9]

Approval and Promulgation of Implementation Plans; State of Iowa; Correction

AGENCY: Environmental Protection Agency (EPA).

ACTION: Final rule; correction.

SUMMARY: On April 12, 1999 (64 FR 17548), EPA published a direct final action approving revisions to the Iowa State Implementation Plan (SIP). This document makes corrections to the table of EPA-Approved Iowa Regulations. The state effective date is corrected to read May 13, 1998, and notations are added to or deleted from the “Comments” column.

EFFECTIVE DATE: This final rule is effective May 22, 2000.

FOR FURTHER INFORMATION CONTACT: Wayne Kaiser at (913) 551-7603.

SUPPLEMENTARY INFORMATION: In the part 52 table in subpart Q, § 52.820(c), which accompanied the April 12, 1999, document, the “state effective date” was listed as May 3, 1998. This action corrects the “state effective date” for all the rules listed, for which there has not been a subsequent revision and more current effective date, to May 13, 1998. Additionally, for rule 20.2, information has been added in the “Comments” column which specifies that certain portions of the rule are not SIP approved. Finally, we are deleting the notation in the “Comments” column for rule 25.1, which indicated that paragraph 25.1(12) was not SIP approved. All of rule 25.1 is SIP approved.

Section 553 of the Administrative Procedure Act, 5 U.S.C. 553(b)(B), provides that, when an agency for good cause finds that notice and public procedures are impracticable, unnecessary, or contrary to the public interest, the agency may issue a rule without providing notice and an opportunity for public comment. We have determined that there is such good cause for making today's rule final without prior proposal and opportunity for comment because we are merely correcting an incorrect citation in a previous action. Thus, notice and public procedure are unnecessary.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule merely corrects an incorrect citation in a previous action, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely corrects a citation in a state rule implementing a Federal standard, and does not alter the relationship or the distribution of power and responsibilities established in the Clean Air Act (CAA). This rule also is not subject to Executive Order 13045 (62 FR 19885, April 23, 1997), because it is not economically significant.

In reviewing SIP submissions, our role is to approve state choices, provided that they meet the criteria of the CAA. In this context, in the absence of a prior existing requirement for the state to use voluntary consensus standards (VCS), we have no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. As stated previously, we made such a good cause finding, including the reasons therefore and established an effective date of May 22, 2000. We will submit a report containing this rule and other required information to the United States Senate, the United States House of Representatives, and the Comptroller General of the United States prior to publication of the rule in the Federal Register. This correction to the Iowa SIP table is not a “major rule” as defined by 5 U.S.C. 804 (2).

List of Subjects in 40 CFR Part 52

Environmental protection, Air pollution control, Carbon monoxide, Intergovernmental relations, Lead, Nitrogen dioxide, Ozone, Particulate matter, Reporting and recordkeeping requirements, Sulfur oxides, Volatile organic compounds.

Dated: May 10, 2000.
William Rice,
Acting Regional Administrator, Region 7.

Chapter I, Title 40 of the Code of Federal Regulations is amended as follows:

PART 52—[AMENDED]

1. The authority citation for Part 52 continues to read as follows:

Authority: 42 U.S.C. 7401 et seq.

Subpart Q—Iowa

2. In § 52.820(c), the following entries in the table, EPA-approved regulations, are revised to read as follows:

§ 52.820 Identification of plan.

* * * * *

(c) * * *

EPA-Approved Iowa Regulations
Iowa citation | Title | State effective date | EPA approval date | Comments
Iowa Department of Natural Resources, Environmental Protection Commission [567]
Chapter 20—Scope of Title-Definitions-Forms-Rule of Practice
567-20.1 | Scope of Title | 5/13/98 | [5/22/00 and FR cite]
567-20.2 | Definitions | 10/14/98 | [5/22/00 and FR cite] | The definitions for anaerobic lagoon, odor, odorous substance, and odorous substance source, are not SIP approved.
567-20.3 | Air Quality Forms Generally | 5/13/98 | [5/22/00 and FR cite]
* * * * * * *
Chapter 22—Controlling Pollution
567-22.1 | Permits Required for New or Existing Stationary Sources | 12/23/98 | [5/22/00 and FR cite] | Subrule 22.1(3) “b” (9) is not SIP approved.
* * * * * * *
567-22.4 | Special Requirements for Major Stationary Sources Located in Areas Designated Attainment or Unclassified (PSD) | 5/13/98 | [5/22/00 and FR cite]
567-22.5 | Special Requirements for Nonattainment Areas | 5/13/98 | [5/22/00 and FR cite]
567-22.8 | Permit by Rule | 5/13/98 | [5/22/00 and FR cite]
* * * * * * *
567-22.203 | Voluntary Operating Permit Applications | 10/14/98 | [5/22/00 and FR cite]
* * * * * * *
567-22.300 | Operating Permit by Rule for Small Sources | 10/14/98 | [5/22/00 and FR cite]
Chapter 23—Emission Standards for Contaminants
567-23.1 | Emission Standards | 10/14/98 | [5/22/00 and FR cite] | Subrules 23.1(2)-(5) are not SIP approved.
567-23.2 | Open Burning | 5/13/98 | [5/22/00 and FR cite]
567-23.3 | Specific Contaminants | 5/13/98 | [5/22/00 and FR cite] | Subrule 23.3(3)(d) is not SIP approved.
* * * * * * *
Chapter 24—Excess Emissions
567-24.1 | Excess Emission Reporting | 5/13/98 | [5/22/00 and FR cite]
* * * * * * *
Chapter 25—Measurement of Emissions
567-25.1 | Testing and Sampling of New and Existing Equipment | 12/23/98 | [5/22/00 and FR cite]
* * * * * * *
Chapter 29—Qualification in Visual Determination of the Opacity of Emissions
567-29.1 | Methodology and Qualified Observer | 5/13/98 | [5/22/00 and FR cite] |
Chapter 31—Nonattainment Areas
* * * * * * *
567-31.2 | Conformity of General Federal Actions to the Iowa SIP or Federal Implementation Plan | 5/13/98 | [5/22/00 and FR cite]
* * * * * * *

* * * * *

[FR Doc. 00-12646 Filed 5-19-00; 8:45 am]

BILLING CODE 6560-50-P